DEPARTMENT OF JUSTICE

Notice of Lodging of Settlement Agreement Under the Comprehensive Environmental Response, Compensation and Liability Act

Notice is hereby given that on May 18, 2006, a proposed Settlement Agreement in In re W.R. Grace & Co., et al., Case Number Case No. 01-01139 (JFK), was lodged with the United States Bankruptcy Court for the District of Delaware.

On or around December 17, 2004, the United States filed a supplemental proof of claim in the W.R. Grace & Co. (“Grace”) bankruptcy proceeding seeking costs incurred and to be incurred at the Wauconda Sand and Gravel Superfund Site in Wauconda, Illinois pursuant to Section 107(a) of the Comprehensive Environmental Response, Compensation and Liability Act, 42 U.S.C. 9607(a). Grace is one of several potentially responsible parties at the Site. Some, but not all, of the other potentially responsible parties have formed the Wauconda Task Group (“WTG”) to perform cleanup work at the Site. The proposed Settlement Agreement would withdraw the United States' supplemental proof of claim related to the Wauconda Site upon payment of $1.25 million to the WTG, at least 55% of which shall only be used to fund a public water system in Wauconda, Illinois. Grace's payment to WTG would be made pursuant to a separate Stipulation between Grace and the WTG (to which the United States is not a party), and must be separately approved by the Bankruptcy Court.

The Department of Justice will receive comments relating to the Settlement Agreement for a period of fifteen (15) days from the date of this publication. Comments should be addressed to the Assistant Attorney General of the Environment and Natural Resources Division, Department of Justice, Washington, DC 20530, and should refer to In re W.R. Grace & Co. and D.J. Ref. Number 90-11-2-07106/5.

The decree may be examined on the following Department of Justice Web site, http://www.usdoj.gov/enrd/open.html. A copy of the decree may also be obtained by mail from the Consent Decree Library, P.O. Box 7611, U.S. Department of Justice, Washington, DC 20044-7611 or by faxing or e-mailing a request to Tonia Fleetwood tonia.fleetwood@usdoj.gov, fax no. (202) 514-0097, phone confirmation number (202) 514-1547. In requesting a copy from the Consent Decree Library, please enclose a check in the amount of $2.00 payable to the U.S. Treasury.

Robert D. Brook,
Assistant Chief, Environmental Enforcement Section, Environment and Natural Resources Division.

[FR Doc. 06-5020 Filed 5-31-06; 8:45 am]

BILLING CODE 4410-15-M